COMMISSION ON CIVIL RIGHTS

Sunshine Act Notice

AGENCY: United States Commission on Civil Rights.

ACTION: Notice of meeting.

Date and Time: Thursday, September 3, 2009; 11:30 a.m. EDT.

Place: Via Teleconference, Public Dial In—1-800-597-7623, Conference ID # 26317162.

Meeting Agenda

This meeting is open to the public.

I. Approval of Agenda

II. Staff Director's Report

• Update on Building Improvements.

III. State Advisory Committee Issues

• Arizona SAC;

• Hawaii SAC;

• Michigan SAC;

• Utah SAC;

• Indiana SAC;

• Nebraska SAC;

• South Dakota SAC.

IV. Program Planning

• Update on National Civil Rights Conference.

V. Adjourn

Contact Person For Further Information: Lenore Ostrowsky, Acting Chief, Public Affairs Unit (202) 376-8582. TDD: (202) 376-8116.

Persons with a disability requiring special services, such as an interpreter for the hearing impaired, should contact Pamela Dunston at least seven days prior to the meeting at 202-376-8105. TDD: (202) 376-8116.

Dated: August 21, 2009.
David Blackwood,
General Counsel.

[FR Doc. E9-20613 Filed 8-21-09; 4:15 pm]

BILLING CODE 6335-01-P